DEPARTMENT OF EDUCATION

Notice of Proposed Information Collection Requests

AGENCY: Department of Education.

ACTION: Correction notice.

SUMMARY: On December 4, 2001, a 60-day notice inviting comment from the public was published for “An Assessment of the Rehabilitation Services Administration (RSA) Pre-Service Training Program” in the Federal Register (Volume 66, Number 233) dated December 4, 2001. The title of this collection has been changed to “An Evaluation of the Rehabilitation Services Administration (RSA) Training Program Responsiveness to State VR Agency Needs for Qualified Personnel”. The study title, as currently drafted, does not indicate the conduct of an evaluation nor does it reflect the full scope of the surveys and data collection. The first sentence of the abstract has also been changed to read, “This study evaluates the impact of RSA's Training Program on the supply of qualified rehabilitation counselors needed by State agencies and will identify possible policy options.” The second and last sentence of the abstract remains the same. The Leader, Regulatory Information Management, Office of the Chief Information Officer, hereby issues a correction notice as required by the Paperwork Reduction Act of 1995.

Dated: December 11, 2001.
John Tressler,
Leader, Regulatory Information Management Group, Office of the Chief Information Officer.

[FR Doc. 01-30959 Filed 12-14-01; 8:45 am]

BILLING CODE 4000-01-P